DEPARTMENT OF THE INTERIOR

Fish and Wildlife Service

Proposed Exchange of Lands on South Fox Island, MI

AGENCY: Fish and Wildlife Service, Interior, lead; National Park Service, Interior, cooperating; Michigan Department of Natural Resources, cooperating.

ACTION: Notice of intent.

SUMMARY: This notice advises the public that the U.S. Fish and Wildlife Service (FWS) and the National Park Service (NPS) will discontinue all activities associated with developing an environmental impact statement (EIS) for a proposed exchange of lands on South Fox Island, Leelanau County, MI.

FOR FURTHER INFORMATION CONTACT: For the various agencies, the contacts are: Mr. Craig Czarnecki, U.S. Fish and Wildlife Service, East Lansing Field Office, 2651 Coolidge Road, Suite 101, East Lansing, MI 48823, telephone: (517) 351-8470, facsimile: (517) 351-1443; or Ms. Elyse LaForest, National Park Service, 15 State Street, Boston, MA 02109, telephone: (617) 223-5190, facsimile: (617) 223-5164; Mr. Doug Erickson, Michigan Department of Natural Resources, Wildlife Division, P.O. Box 30444, Lansing, MI 48909-7944; telephone: (517) 335-4316, facsimile: (517) 373-6705.

SUPPLEMENTARY INFORMATION: The actions that were being evaluated by this EIS were: (1) The approval by FWS of the exchange of 313 acres, acquired by the State with Federal Aid in Wildlife Restoration assistance, for lands with equal monetary and wildlife restoration values; (2) the approval by the NPS for the State to exchange 105 acres with NPS interest for private lands with equal or greater monetary and recreational value; and (3) the related exchange of 220 acres of unencumbered State-owned land for fee title and easements for private lands of equal value. We published a notice of intent to prepare the EIS in the May 16, 2001, Federal Register (66 FR 27154). That notice included further information on this proposed exchange of lands.

The FWS and NPS have received a written request from the Michigan Department of Natural Resources (DNR) to permanently discontinue efforts on development of the EIS to analyze the proposed exchange of land on South Fox Island, Leelanau County, MI, about 30 miles west northwest of Charlevoix, in Lake Michigan. Since the actions being considered were commenced at the request of the Michigan DNR, the FWS and NPS will honor the request to discontinue efforts on preparing the EIS as of this publication date. Any proposed exchange of land with FWS or NPS interest on South Fox Island is formally discontinued. Any future consideration of a similar land exchange would be a new action requiring the initiation of a new NEPA evaluation and appropriate compliance review. The Michigan DNR is presently considering a new proposal for a land trade of 218 acres of land that has no Federal interest. Such a proposal would not require Federal approval and would therefore not be subject to NEPA compliance.

November 28, 2001.
Marvin E. Moriarty,
Acting Regional Director, Region 3, Fort Snelling, MN.

[FR Doc. 01-29951 Filed 12-3-01; 8:45 am]

BILLING CODE 4310-55-P